DEPARTMENT OF DEFENSE

Department of the Army; Corps of Engineers

Intent To Prepare a Draft Environmental Impact Statement for the North Palm Beach County Project, Part 1 in Palm Beach County, FL

AGENCY: Department of the Army, U.S. Army Corps of Engineers, DOD.

ACTION: Notice of intent.

SUMMARY: The Jacksonville District, U.S. Army Corps of Engineers (Corps), intends to prepare an integrated Project Implementation Report and Draft Environmental Impact Statement (DEIS) for the North Palm Beach County (NPBC) Project, Part 1. The study is a cooperative effort between the Corps and the South Florida Water Management District (SFWMD), which is also a cooperating agency for this DEIS. One of the recommendations of the final report of the Central & South Florida (C&SF) Comprehensive Review Study (Restudy) was the NPBC Project. This project includes 6 separable components that together will provide environmental, urban, and agricultural water supply needs, flood attenuation, and some water quality improvements for NPBC. The components include the Pal-Mar and Corbett Hydropattern Restoration, L-8 Basin Modifications, C-51 and L-8 Basin Reservoir, Lake Worth Lagoon Restoration, C-17 Backpumping and Treatment, and C-51 Backpumping and Treatment.

DATES: A public scoping meeting is scheduled for October 29, 2002, 6:30 p.m., at the B1-Auditorium, SFWMD, 3301 Gun Club Road, West Palm Beach, Palm Beach County.

FOR FURTHER INFORMATION CONTACT: Ms. Rebecca Weiss, U.S. Army Corps of Engineers, Planning Division, Environmental Branch, P.O. Box 4970, Jacksonville, FL 32232-0019, or by telephone at 904-899-5025.

SUPPLEMENTARY INFORMATION: a. Authorization: Entitled “Everglades and South Florida Ecosystem Restoration”, section 528 of the Water Resources Development Act (WRDA) of 1996 authorized a number of ecosystem restoration activities, including the North Palm Beach County Project (Pub. L. 104-303). The restoration activities were a continuation of earlier efforts started during the Central and Southern Florida (C&SF) Project Comprehensive Review Study (Restudy), authorized by section 309(l) of the WRDA of 1992 (Pub. L. 102-580). Signed on December 11, 2000, section 601 of the WRDA of 2000 authorized a framework and guide for modifications to the C&SF Project to restore the south Florida ecosystem and to provide for the other water-related needs of the region.

b. Project Scope: The NPBC project will promote environmental restoration and sustainable water resources in Palm Beach County through 6 separable components. The Pal-Mar and J.W. Corbett Hydropattern Restoration involves acquisition of 3,000 acres of land to extend the spatial extent of protected natural areas and provide a hydrologic connection between the Pal-Mar and Corbett Wildlife Management Area. The L-8 Basin Modification consists of conveyance improvements to increase water supply availability and enhance hydroperiods in Loxahatchee Slough. C-51 and L-8 Basin Reservoir involves construction of 48,000 acre-feet reservoir or reservoirs for long term storage to meet water supply and to reduce discharges to Lake Worth Lagoon. Lake Worth Lagoon Restoration includes sediment removal to provide improvements to the lagoon environment and augment local habitat restoration efforts planned by Palm Beach County. The C-17 and the C-51 backpumping components include backpumping facilities and construction of a 550-acre and a 600-acre stormwater treatment area, respectively, to increase water supplies to West Palm Beach Water Catchment Area and enhance hydroperiods in Loxahatchee Slough.

c. Preliminary Alternatives: Formulation of alternative plans will involve the selection of the most suitable site for the reservoirs, pump stations, land acquisitions, and other surface facilities, impoundment depths and configurations, canal modifications, water treatment requirements, investigation of intake and discharge sites of stored water, and investigation of best configuration of surface facilities for the project.

The Environmental Impact Statement (EIS) will include an evaluation of adverse environmental impacts, including but not limited to, water quality, socio-economic, archaeological and biological. In addition, to adverse impacts, the evaluation will also focus on how well the plans perform with regard to specific ecological performance measures.

d. Issues: The EIS will consider impacts on water quality, ecosystem habitat, threatened and endangered species, health and safety, aesthetics and recreation, fish and wildlife resources, cultural resources, water availability, flood protection, and other potential impacts identified through scoping, public involvement, and interagency coordination.

e. Scoping: A public scoping meeting is scheduled for October 29, 2002 (see DATES). A scoping letter will also be issued October 2002 to interested parties. In addition, all parties are invited to participate in the scoping process by identifying any additional concerns on issues studies needed, alternatives, procedures, and other matters related to the scoping process.

f. Public Involvement: We invite the participation of affected Federal, state and local agencies, affected Indian tribes, and other interested private organizations and parties.

g. Coordination: The proposed action is being coordinated with the U.S. Fish and Wildlife Service (FWS) and the National Marine Fisheries Service under section 7 of the Endangered Species Act, with the FWS under the Fish and Wildlife Coordination Act, and with the State Historic Preservation Officer.

h. Other Environmental Review and Consultation: The proposed action would involve evaluation for compliance with guidelines pursuant to section 404(b) of the Clean Water Act; application (to the State of Florida) for Water Quality Certification pursuant to section 401 of the Clean Water Act; certification of state lands, easements and right of ways, and determination of Coastal Zone Management Act consistency.

i. Agency Role: As the cooperating agency, non-Federal sponsor, and leading local expert, SFWMD will provide information and assistance on the resources to be impacted and alternatives.

j. DEIS Preparation: The integrated Project Implementation Report, including a DEIS, is currently scheduled for publication in June 2004.

Dated: October 8, 2002.
James C. Duck,
Chief, Planning Division.

[FR Doc. 02-26337 Filed 10-15-02; 8:45 am]

BILLING CODE 3710-AJ-M